DEPARTMENT OF TRANSPORTATION

National Highway Traffic Safety Administration

[Docket Number NHTSA-2019-0027]

Agency Information Collection Activities; Notice and Request for Comments; State Notification to Consumers of Motor Vehicle Recall Status

AGENCY: National Highway Traffic Safety Administration (NHTSA), Department of Transportation (DOT).

ACTION: Notice and request for comments.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections. A Federal Register Notice with a 60-day comment period soliciting comments on the following information collection was published on May 7, 2019. No comments were received.

DATES: Comments must be submitted on or before August 26, 2019.

ADDRESSES: Send comments regarding the burden estimate, including suggestions for reducing the burden, to the Office of Management and Budget, Attention: Desk Office for the Office of the Secretary of Transportation, 725 17th Street NW, Washington, DC 20503.

FOR FURTHER INFORMATION CONTACT: Alexander Ansley, Program Support Division, Office of Defects Investigation (NEF-110), (202) 493-0481, National Highway Traffic Safety Administration, Department of Transportation, 1200 New Jersey Avenue SE, W48-336, Washington, DC 20590. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation at 5 CFR 1320.8(d), an agency must ask for public comment on the following: (i) Whether the proposed collection of information is necessary for the proper performance of the functions of the agency, including whether the information will have practical utility; (ii) the accuracy of the agency's estimate of the burden of the proposed collection of information, including the validity of the methodology and assumptions used; (iii) how to enhance the quality, utility, and clarity of the information to be collected; (iv) how to minimize the burden of the collection of information on those who are to respond, including the use of appropriate automated, electronic, mechanical, or other technological collection techniques or other forms of information technology, e.g., permitting electronic submission of responses.

In compliance with these requirements, NHTSA asks for public comments on the following proposed collection of information:

Title of Collection: State Notification to Consumers of Motor Vehicle Recall Status.

OMB Control Number: None.

Type of Request: New information collection request.

Type of Review: Regular.

Form Number: OMB SF 424, OMB SF 424A, and OMB SF 424B.

Requested Expiration Date of Approval: 3 years from date of approval.

Abstract: NHTSA is responsible for reducing deaths, injuries and economic losses resulting from motor vehicle crashes. This is accomplished by setting and enforcing safety performance standards for motor vehicles and motor vehicle equipment, and through grants to state and local governments to enable them to conduct effective local highway safety programs. NHTSA investigates safety defects in motor vehicles; sets and enforces fuel economy standards; helps states and local communities reduce the threat of impaired drivers; promotes the use of safety belts, child safety seats and air bags; investigates odometer fraud; establishes and enforces vehicle anti-theft regulations; and provides consumer information on motor vehicle safety issues.

The National Traffic and Motor Vehicle Safety Act, 49 U.S.C. 30101, et. seq., as amended (the Safety Act), requires a motor vehicle manufacturer to notify the owners and purchasers of its vehicles of a safety-related defect, or that the vehicle does not comply with an applicable Federal motor vehicle safety standard.¹ A vehicle manufacturer must provide notice of a recall, in a manner prescribed through regulation by NHTSA, to each person registered under State law as the owner and whose name and address are reasonably ascertainable by the manufacturer through State records or other available sources or, if a registered owner is not notified through State registration information, to the most recent purchaser known to the manufacturer.²

¹ 49 U.S.C. 30118.

² 49 U.S.C. 30119(d).

In order to identify owners of vehicles subject to a safety-related recall and provide notification to them, a motor vehicle manufacturer typically contracts with a third party that obtains vehicle registration data for the affected vehicles from State motor vehicle administrations. The motor vehicle manufacturer then notifies owners and purchasers by U.S. Mail about the safety recall and, among other things, about how to obtain a remedy to fix the defect or noncompliance.³ To obtain a remedy, the consumer must then present the recalled motor vehicle to an authorized dealer for the dealer to remedy the defect or noncompliance. 49 U.S.C. 30120.

³ 49 U.S.C. 30119(d) and 49 CFR part 577.

Recall completion rates can and do vary widely depending on a variety of factors such as the age and type of vehicle, as well as owners' perception of relative risk.⁴ Considering this wide range, regardless of completion averages, the fact remains that there are at any time tens of millions of vehicles on the road with unremedied safety defects or noncompliances, each one creating a safety risk. NHTSA and the motor vehicle industry have sought to improve notice of safety-related defects to owners and to develop ways to increase the rate at which owners complete the remedy identified in the notice.

⁴ NHTSA, Report to Congress: “Vehicle Safety Recall Completion Rates Report” (2018). A copy of the Vehicle Safety Recall Completion Rates Report is located on NHTSA's website at: https://www.nhtsa.gov/sites/nhtsa.dot.gov/files/documents/18-3122_vehicle_safety_recall_completion_rates_report_to_congress-tag.pdf.

In 2016, in accordance with Section 24105 of the Fixing America's Surface Transportation (FAST) Act, Public Law 114-94, NHTSA announced a pilot program to evaluate the feasibility and effectiveness of a State process to inform consumers of open motor vehicle recalls at the time of motor vehicle registration. The grant was conditioned upon a State having the capability to use a vehicle identification number (VIN) to identify whether the specific vehicle was subject to an open safety recall. In 2017, NHTSA awarded the Maryland Motor Vehicle Administration a grant to provide vehicle owners and lessees notice of open safety related recalls on their vehicles. Maryland began notifying vehicle owners and lessees in the Spring of 2018.

Since the start of the Maryland notification program, several States have expressed an interest in partnering with NHTSA to provide similar recall notification to consumers in their states. While the Maryland Pilot Program offers a promising effort to increase consumer awareness to repair open safety recalls (and an opportunity to measure the effectiveness of such notification), additional notification by State DMVs would increase consumer awareness of open safety recalls and increase the repair rate of recalled vehicles. NHTSA believes such efforts will ultimately reduce the risk of a crash or injury due to a safety defect. Under its existing authority provided in the Safety Act, NHTSA is offering this opportunity to further develop this State to consumer notification to increase awareness of open recalls.

NHTSA encourages applicants to be creative and innovative when developing a proposal (application) for this grant. NHTSA is interested in proposals that provide vehicle owners and lessees with frequent notifications at touchpoints between the State and the vehicle. For example, NHTSA is interested in proposals that may offer options at the time of vehicle registration and other unique notification methods (or even follow-up notification). One potential option is to have notification at the time of registration and at motor vehicle emissions and/or safety inspection stations. A State is free to propose a process to make use of the functionality that may exist through its inspection stations or other intersection between the State and the consumer's vehicle. NHTSA does not want to discourage innovative approaches, provided they satisfy the program requirements of notification at the intersection of a vehicle owner or lessee and the State.

NHTSA is also interested in proposals that provide an analysis of recall completion data on an ongoing basis to assist in program evaluation, or assessment of owners' attitudes toward a particular recall notification protocol. In particular, NHTSA is interested in ways for a State to identify the motor vehicles that were remedied following notification of an open recall by the State. NHTSA looks forward to reviewing resourceful approaches that will motivate owners to remedy open recalls.

While this funding opportunity will be made available to all states, NHTSA anticipates an estimated twenty (20) state applications. NHTSA will require these applications not exceed 25 pages (not including resumes or appendices). NHTSA will also require OMB Standard Form (SF) 424 (including 424 “Application for Federal Assistance,” 424A “Budget Information for Non-Construction Programs,” and 424B “Assurances for Non-Construction Programs”), with the required information filled in and certified assurances signed. NHTSA estimates the burden for completing these applications at 3,200 hours total (160 hours × 20 state applicants = 3,200 hours) to allow each applicant thirty (30) days to conduct the necessary research, design their program, and complete the application package.

Affected Public: State vehicle registration authorities.

Estimated Number of Respondents: 20.

Frequency: One-time.

Number of Responses: 20.

Estimated Total Annual Burden Hours: 3,200.

Estimated Total Annual Burden Cost: None.

Public Comments Invited: You are asked to comment on any aspect of this information collection, including (a) whether the proposed collection of information is necessary for the Department's performance, including whether the information will have practical utility; (b) the accuracy of the Department's estimated burden; (c) ways for the Department to enhance the quality, utility and clarity of the information collection; and (d) ways to minimize the burden of the collection of information on respondents, including the use of automated collection techniques or other forms of information technology.

A comment to OMB is most effective if OMB receives it within 30 days of publication.

Authority: The Paperwork Reduction Act of 1995; 44 U.S.C. chapter 35, as amended; and 49 CFR 1:48.

Stephen A. Ridella,
Director, Office of Defects Investigation.

[FR Doc. 2019-15759 Filed 7-24-19; 8:45 am]

BILLING CODE 4910-59-P